DEPARTMENT OF DEFENSE

48 CFR Part 252

[DFARS Case 2000-D006]

Defense Federal Acquisition Regulation Supplement; Caribbean Basin Countries

AGENCY: Department of Defense (DoD).

ACTION: Final rule.

SUMMARY: The Acting Director of Defense Procurement has issued a final rule amending the Defense Federal Acquisition Regulation Supplement (DFARS) to implement the determination of the United States Trade Representative (USTR) to renew the treatment of Caribbean Basin Country end products a eligible products under the Trade Agreements Act, except for end products from the Dominican Republic and Honduras.

EFFECTIVE DATE: April 13, 2000.

FOR FURTHER INFORMATION CONTACT: Ms. Amy Williams, Defense Acquisition Regulations Council, PDUSD (AT&L) DP (DAR), IMD 3D139, 3062 Defense Pentagon, Washington, DC 20301-3062. Telephone (703) 602-0288; telefax (703) 602-0350. Please cite DFARS Case 2000-D006.

SUPPLEMENTARY INFORMATION:

A. Background

The USTR published a notice of 65 FR 9038 on February 23, 2000, to renew the treatment of Caribbean Basin Country end products as eligible products under the Trade Agreements Act, except for end products from the Dominican Republic and Honduras. The clauses at DFARS 252.225-7007, Buy American Act—Trade Agreements—Balance of Payments Program, and 252.225-7021, Trade Agreements, list the Caribbean Basin countries whose products are eligible products under the Trade Agreements Act. This final rule amends the clauses to remove the Dominican Republic and Honduras from the list, in accordance with the USTR determination.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subpart in accordance with 5 U.S.C. 610. Such comments should cite DFARS Case 2000-D006.

C. Paperwork Reduction Act

The Paperwork Reduction Act does not apply because the rule does not impose any information collection requirements that require the approval of the Office of Management and Budget under 44 U.S.C. 3501, et seq.

List of Subjects in 48 CFR Part 252

Government procurement.

Michele P. Peterson,
Executive Editor, Defense Acquisition Regulations Council.

Therefore, 48 CFR part 252 is amended as follows:

1. The authority citation for 48 CFR part 252 continues to read as follows:

Authority: 41 U.S.C. 421 and 48 CFR Chapter 1.

PART 252—SOLICITATION PROVISIONS AND CONTRACT CLAUSES

252.225-7007 [Amended]

2. Section 252.225-7007 is amended by revising the clause date to read “(APR 2000)”; and in paragraph (a)(1) by removing “Dominican Republic” and “Honduras”.

252.225-7021 [Amended]

3. Section 252.225-7021 is amended by revising the clause date to read “(APR 2000)”; and in paragraph (a)(1) by removing “Dominican Republic” and “Honduras”.

[FR Doc. 00-9086 Filed 4-12-00; 8:45 am]

BILLING CODE 5000-04-M